DEPARTMENT OF THE INTERIOR

National Park Service

National Register of Historic Places; Weekly Listing of Historic Properties

Pursuant to (36 CFR 60.13(b, c)) and (36 CFR 63.5), this notice, through publication of the information included herein, is to apprise the public as well as governmental agencies, associations and all other organizations and individuals interested in historic preservation, of the properties added to, or determined eligible for listing in, the National Register of Historic Places from January 11 to January 15, 2010.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: March 24, 2010.
J. Paul Loether,
Chief, National Register of Historic Places/National Historic Landmarks Program.

KEY: State, County, Property Name, Address/Boundary, City, Vicinity, Reference Number, Action, Date, Multiple Name

ILLINOIS

Cook County

Berger Park, 6205-47 N. Sheridan Rd., Chicago, 09001225, LISTED, 1/12/10 (Chicago Park District MPS)

MISSOURI

Greene County

Springfield Public Square Historic District (Boundary Increase), E. side Public Square, part of the 300 block Park Central E., N. side of 200 block of W. Olive, Springfield, 09000281, LISTED, 1/13/10 (Springfield MPS)

St. Louis Independent City

Federal Cold Storage Company Building, 1800-28 N. Broadway, St. Louis, 09001226, LISTED, 1/12/10

NEW YORK

Dutchess County

Trinity Methodist Church, 8 Mattie Cooper Square, Beacon, 09001227, LISTED, 1/12/10

Herkimer County

Masonic Temple—Newport Lodge No. 445 F. & A.M., 7408 NY 28, Newport vicinity, 09001228, LISTED, 1/13/10

Orange County

Dock Hill Road Extension Stone Arch Bridge, Dock Hill Rd. Extension, Cornwall-on-Hudson, 09001230, LISTED, 1/13/10 (Stone Arch Bridges of the Village of Cornwall-on-Hudson MPS)

NORTH DAKOTA

Grand Forks County

University of North Dakota Historic District, University of North Dakota, Grand Forks, 08001233, LISTED, 1/13/10

PENNSYLVANIA

Chester County

Chandler Mill Bridge, Kennett Township, Kennett, 09001213, LISTED, 1/11/10

Cheyney Squire, Farm, 1255 Cheyney Thornton Rd., Thornbury, 09001214, LISTED, 1/11/10

Hopewell Farm, 1751 Valley Rd., Valley, 09001215, LISTED, 1/11/10

RHODE ISLAND

Providence County

Central Diner, 777 Elmwood Ave., Providence, 09001231, LISTED, 1/13/10

VIRGINIA

Alexandria Independent City

Uptown-Parker-Gray Historic District, Roughly Cameron St. N. to 1st St. and N. Columbus St. W. to the following sts forming W. line, Buchanan, N. West, Alexandria, 09001232, LISTED, 1/12/10

WASHINGTON

Pierce County

Blue Mouse Theatre, 2611 N. Proctor St., Tacoma, 09001235, LISTED, 1/13/10 (Movie Theaters in Washington State MPS)

Whatcom County

Cissna Cottages Historic District, Area roughly bounded by H., Halleck, G., and Girard Sts., Bellingham, 09001219, LISTED, 1/11/10

[FR Doc. 2010-7153 Filed 3-29-10; 8:45 am]

BILLING CODE 4312-51-P